DEPARTMENT OF TRANSPORTATION

Federal Aviation Administration

14 CFR Part 39

[Docket No. FAA-2008-1020 Directorate Identifier 2008-CE-053-AD; Amendment 39-15751; AD 2008-24-11]

RIN 2120-AA64

Airworthiness Directives; Vulcanair S.p.A. Model P68 Series Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

The Safe Fatigue Limits (SFL) of the Wing Structure in the P68 Series aircraft have been redefined from the current 8,500 Flight Hours to a new value to be calculated up to a maximum of 17,500 Flight Hours. This has been developed by Vulcanair under Change No. MOD.P68/79 Rev. 1 and approved by EASA with No. EASA.A.C.02482 on 07 June 2006.

We are issuing this AD to require actions to correct the unsafe condition on these products.

DATES: This AD becomes effective January 2, 2009.

On January 2, 2009, the Director of the Federal Register approved the incorporation by reference of certain publications listed in this AD.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT: Sarjapur Nagarajan, Aerospace Engineer, FAA, Small Airplane Directorate, 901 Locust, Room 301, Kansas City, Missouri 64106; telephone: (816) 329-4145; fax: (816) 329-4090.

SUPPLEMENTARY INFORMATION:

Discussion

We issued a notice of proposed rulemaking (NPRM) to amend 14 CFR part 39 to include an AD that would apply to the specified products. That NPRM was published in the Federal Register on September 26, 2008 (73 FR 55786). That NPRM proposed to correct an unsafe condition for the specified products. The MCAI states:

The Safe Fatigue Limits (SFL) of the Wing Structure in the P68 Series aircraft have been redefined from the current 8,500 Flight Hours to a new value to be calculated up to a maximum of 17,500 Flight Hours. This has been developed by Vulcanair under Change No. MOD.P68/79 Rev. 1 and approved by EASA with No. EASA.A.C.02482 on 07 June 2006.

The new Safe Fatigue Limits depend on:

(a) Status of the modification (reinforcement) of the wing structure itself (Partenavia Service Bulletin No. 65 refers); and

(b) Aircraft Flight Hours accumulated before the modification (reinforcement) was implemented.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

Costs of Compliance

Based on the service information, we estimate that this AD will affect 72 products of U.S. registry. We also estimate that it will take about 80 work-hours per product to comply with basic requirements of this AD. The average labor rate is $80 per work-hour.

Based on these figures, we estimate the cost of this AD to the U.S. operators to be $460,800, or $6,400 per product.

We have no way of determining the number of products that may need any necessary follow-on actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-24-11 Vulcanair S.p.A.: Amendment 39-15751; Docket No. FAA-2008-1020; Directorate Identifier 2008-CE-053-AD.

Effective Date

(a) This airworthiness directive (AD) becomes effective January 2, 2009.

Affected ADs

(b) None.

Applicability

(c) This AD applies to Models P 68, P 68B, P 68C, P 68C-TC, P 68 “OBSERVER,” AP68TP300 “SPARTACUS,” P68TC “OBSERVER,” AP68TP 600 “VIATOR,” and P68 “OBSERVER 2” airplanes; all serial numbers, certificated in any category.

Subject

(d) Air Transport Association of America (ATA) Code 51: Standard Practices/Structures.

Reason

(e) The mandatory continuing airworthiness information (MCAI) states:

The Safe Fatigue Limits (SFL) of the Wing Structure in the P68 Series aircraft have been redefined from the current 8,500 Flight Hours to a new value to be calculated up to a maximum of 17,500 Flight Hours. This has been developed by Vulcanair under Change No. MOD.P68/79 Rev. 1 and approved by EASA with No. EASA.A.C.02482 on 07 June 2006.

The new Safe Fatigue Limits depend on:

(a) Status of the modification (reinforcement) of the wing structure itself (Partenavia Service Bulletin No. 65 refers); and

(b) Aircraft Flight Hours accumulated before the modification (reinforcement) was implemented.

Actions and Compliance

(f) Unless already done, do the following actions:

(1) For serial numbers 01 through 356, determine the safe fatigue limit of the wing structure following Vulcanair S.p.A. Service Bulletin No. 120 Rev. 1, dated June 7, 2006, within 8,500 hours time-in-service (TIS) since new or within 500 hours TIS after January 2, 2009 (the effective date of this AD), whichever occurs later.

(2) For serial numbers 01 through 356, inspect the wing structure and the wing to fuselage attachments following Vulcanair S.p.A. Service Bulletin No. 120 Rev. 1, dated June 7, 2006, within the safe fatigue limit determined in paragraph (f)(1) of this AD or within 500 hours TIS after January 2, 2009 (the effective date of this AD), whichever occurs later. Repetitively thereafter inspect at intervals not to exceed every 500 hours TIS.

(3) For serial numbers 357 and above, inspect the wing structure and the wing to fuselage attachments following Vulcanair S.p.A. Service Bulletin No. 120 Rev. 1, dated June 7, 2006, within 17,500 hours TIS since new or within 500 hours TIS after January 2, 2009 (the effective date of this AD), whichever occurs later. Repetitively thereafter inspect at intervals not to exceed every 500 hours TIS.

(4) For all serial numbers, inspect the stabilator following Vulcanair S.p.A. Service Bulletin No. 120 Rev. 1, dated June 7, 2006, within 8,500 hours TIS since new or within 500 hours TIS after January 2, 2009 (the effective date of this AD), whichever occurs later. Repetitively thereafter inspect at intervals not to exceed every 500 hours TIS.

(5) If as a result of any inspection required by paragraphs (f)(2), (f)(3), or (f)(4) of this AD you find any discrepancies (for example, cracked or broken parts), do one of the following actions before further flight:

(i) Repair the airplane following FAA-approved repair instructions obtained from Vulcanair S.p.A.; or

(ii) Repair the airplane following a repair method approved by the FAA for this AD. Contact the FAA at the address in paragraph (g)(1) of this AD for an FAA-approved method.

Note 1: For certain Model P 68 airplanes, AD 85-08-04 requires repetitive inspections of the front and rear wing spars for cracks with modification if cracks are found. The modification terminates the repetitive inspections required in AD 85-08-04 and may be done regardless if cracks are found. The actions of AD 85-08-08 are independent of this AD action and remain in effect.

FAA AD Differences

Note 2: This AD differs from the MCAI and/or service information as follows:

(1) The MCAI is extending the safe fatigue limits of the wing structure and the wing to fuselage attachments of certain airplanes. Airplanes registered in the United States did not have safe fatigue limits established for the wing structure and the wing to fuselage attachments. This AD is establishing safe fatigue limits for the wing structure and the wing to fuselage attachments. This AD is also establishing safe fatigue limits for the stabilator.

(2) The MCAI requires implementation of safe fatigue limits into the airplane maintenance program (maintenance program). An airplane registered in the United States and operated under 14 CFR part 91 is required to have a maintenance program, but not necessarily following the airplane maintenance manual. This AD requires you to do specific actions of Vulcanair S.p.A. Service Bulletin No. 120 Rev. 1, dated June 7, 2006, rather than incorporating those actions into the maintenance program.

Other FAA AD Provisions

(g) The following provisions also apply to this AD:

(1) Alternative Methods of Compliance (AMOCs): The Manager, Standards Office, FAA, has the authority to approve AMOCs for this AD, if requested using the procedures found in 14 CFR 39.19. Send information to ATTN: Sarjapur Nagarajan, Aerospace Engineer, FAA, Small Airplane Directorate, 901 Locust, Room 301, Kansas City, Missouri 64106; telephone: (816) 329-4145; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency AD No.: 2007-0027, dated February 5, 2007, for related information.

Material Incorporated by Reference

(i) You must use Vulcanair S.p.A. Service Bulletin No. 120 Rev. 1, dated June 7, 2006, to do the actions required by this AD, unless the AD specifies otherwise.

(1) The Director of the Federal Register approved the incorporation by reference of this service information under 5 U.S.C. 552(a) and 1 CFR part 51.

(2) For service information identified in this AD, contact Vulcanair S.p.A, Via G. Pascoli, 7, Casoria (Naples), 80026 Italy; telephone: +39 081 5918111; fax: +39 081 5918172; e-mail: info@vulcanair.com; Internet: http://www.vulcanair.com.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on November 19, 2008.
John R. Colomy,
Acting Manager, Small Airplane Directorate, Aircraft Certification Service.

[FR Doc. E8-27916 Filed 11-26-08; 8:45 am]

BILLING CODE 4910-13-P